DEPARTMENT OF THE INTERIOR

Bureau of Land Management

[NM-030-1231-00]

Notice of Emergency Closure of Trails and Establishment of Visitor Restrictions for Acquired Land in Barr Canyon and Nichol's Canyon Special Recreation Management Areas, Las Cruces, NM

AGENCY: Bureau of Land Management (BLM), Interior.

ACTION: Emergency closure of trails and establishment of visitor restrictions.

SUMMARY: Notice is hereby given that effective immediately, the Las Cruces Field Office is implementing the following closure of existing vehicle trails to use by any motorized vehicles and equipment, and establishing visitor restrictions. The closures and restrictions are implemented in order to prevent resource degradation and protect the natural resource values of Barr Canyon (also known as Soledad property), Dona Ana County, and Nichol's Canyon, Grant County, New Mexico. The authority for these emergency closures and restrictions is 43 CFR 8364.1, Closure and Restriction Orders. The following rules will apply to public land users unless authorized by written permit or for administrative use.

1. Public land in T. 23 S., R. 3 E., Section 13, Barr Canyon (also known as Soledad property), Dona Ana County NM, totaling 423 acres.

• Parking is limited to the designated parking areas only. The normal restriction against parking within 300 yards of a manmade water source is waived. Parking along the BLM portion of Soledad Canyon Road is prohibited.

• Vehicle use is limited to the designated roads and parking lot. Vehicle speeds shall not exceed 15 miles per hour.

• The trail system east of the parking lot is limited to non-motorized uses only.

• The Barr Canyon area (also known as Soledad property) is limited to day use only. The entrance gate will be open from 8 a.m. to 5 p.m. daily.

• Campfires, fireworks, and discharge of firearms are prohibited.

• Pets are allowed, but must be leashed and restrained at all times. Livestock must be controlled by bridles, halters, and lead ropes.

2. Public land in T. 19 S., R 19 W., Section 18, Nichol's Canyon, Grant County, NM, totaling 360 acres.

• Vehicle use is limited to designated roads and trails to protect threatened and endangered species habitat, riparian, and other wildlife and recreational values, as well as the wilderness values of the Gila Lower Box Wilderness Study Area.

• Vehicles will be limited to the main road from the northwest to the BLM barn, and to the main road from the south to the bench under the cottonwood trees. Vehicles will be prohibited from the floodplain of the Gila River.

DATES: This closure is effective on the day that this notice is published in the Federal Register, and shall remain in effect until rescinded or modified by the authorized officer.

ADDRESSES: BLM, Las Cruces Field Office, 1800 Marquess, Las Cruces, New Mexico 88005

FOR FURTHER INFORMATION CONTACT: Jim Talent, Recreation/Cultural Team Leader at (505) 525-4400 or Mark Hakkila, Natural Resource Specialist, at (505) 525-4341.

SUPPLEMENTARY INFORMATION: Violations of these closures and restrictions are punishable by fines not to exceed $1,000 and/or imprisonment not to exceed 1 year. These actions are taken to prevent impacts to soils, native vegetative resources, wildlife habitat, cultural resources, and scenic values, and to protect public health and safety.

Copies of this closure order and maps showing the location of the routes are available from the Las Cruces Field Office, 1800 Marquess, Las Cruces, NM 88005.

Dated: June 12, 2003.
Amy L. Lueders,
Field Manager, Las Cruces.

[FR Doc. 03-18436 Filed 7-18-03; 8:45 am]

BILLING CODE 4310-VC-P